DEPARTMENT OF COMMERCE

International Trade Administration

[C-570-911]

Circular Welded Carbon Quality Steel Pipe From the People's Republic of China: Rescission of Countervailing Duty Administrative Review

AGENCY: Import Administration, International Trade Administration, Department of Commerce.

DATES: Effective Date: December 20, 2011.

FOR FURTHER INFORMATION CONTACT: Joshua Morris at (202) 482-1779; AD/CVD Operations, Office 1, Import Administration, International Trade Administration, U.S. Department of Commerce, 14th Street and Constitution Avenue NW., Washington, DC 20230.

Background

On July 1, 2011, the Department of Commerce (“the Department”) published a notice announcing the opportunity to request an administrative review of the countervailing duty order on circular welded carbon quality steel pipe (“CWP”) from the People's Republic of China (“PRC”) for the period January 1, 2010, through December 31, 2010. See Antidumping or Countervailing Duty Order, Finding, or Suspended Investigation; Opportunity To Request Administrative Review, 76 FR 38609 (July 1, 2011). On August 1, 2011, the Wheatland Tube Company (“Wheatland”), a domestic producer of CWP, timely requested that the Department conduct a review of nineteen producers and/or exporters of the subject merchandise. In accordance with 19 CFR 351.221(c)(1)(i), the Department published a notice initiating this administrative review. See Initiation of Antidumping and Countervailing Duty Administrative Reviews and Requests for Revocation in Part, 76 FR 53404 (August 26, 2011).

Rescission of Review

Pursuant to 19 CFR 351.213(d)(l), the Secretary will rescind an administrative review, in whole or in part, if the party that requested a review withdraws the request within 90 days of the date of publication of the notice of initiation of the requested review. On November 22, 2011, Wheatland withdrew its request for review of all nineteen exporters and producers within the 90-day period. Therefore, in response to Wheatland's timely withdrawal, and as no other party requested a review, the Department is rescinding this administrative review.

Assessment

The Department will instruct U.S. Customs and Border Protection (“CBP”) to assess countervailing duties on all appropriate entries. For the companies for which this review is rescinded, countervailing duties shall be assessed at rates equal to the cash deposit of estimated countervailing duties required at the time of entry, or withdrawal from warehouse, for consumption, in accordance with 19 CFR 351.212(c)(1)(i). The Department intends to issue appropriate assessment instructions to CBP 15 days after the date of publication of this notice.

Notification Regarding Administrative Protective Order

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

This notice of rescission is issued and published in accordance with sections 751(a)(1) and 777(i)(1) of the Tariff Act, as amended, and 19 CFR 351.213(d)(4).

Dated: December 12, 2011.
Christian Marsh,
Deputy Assistant Secretary for Antidumping and Countervailing Duty Operations.

[FR Doc. 2011-32547 Filed 12-19-11; 8:45 am]

BILLING CODE 3510-DS-P